DEPARTMENT OF COMMERCE

National Oceanic and Atmospheric Administration

RIN 0648-XG902

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Monday, April 8, 2019 through Thursday, April 11, 2019. For agenda details, see SUPPLEMENTARY INFORMATION.

ADDRESSES:

Meeting address: The meeting will be held at the Icona Avalon Resort, 7849 Dune Dr., Avalon, NJ 08202 telephone: (609) 368-5155.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible.)

Monday, April 8, 2019

Law Enforcement, HMS, and Tilefish Committees

Review recommendations from the Law Enforcement/For-Hire Workshop (November 13-14, 2018) and develop recommendations on further Council actions.

NEFMC Listening Session for the Recreational Groundfish (Northeast Multispecies) Party/Charter Fishery

The NEFMC may develop an amendment to the Fishery Management Plan for Northeast Multispecies and is seeking public input on the possibility of developing a limited access program for the recreational groundfish party and charter fishery.

Tuesday, April 9, 2019

Atlantic Surfclam and Ocean Quahog Excessive Shares Amendment

Approve Public Hearing Document

Atlantic Surfclam 2019 and 2020 Specifications

Review and possibly revise 2019 and 2020 specifications based on SSC revision of OFL/ABC.

Atlantic Surfclam and Ocean Quahog Catch Share Program Review

Presentation of final report (Northern Economics, Inc.) and initiate public comment period.

Blueline Tilefish 2020 Specifications

Review SSC, Advisory Panel, Monitoring Committee, and staff recommendations for 2020 specifications.

Golden Tilefish 2020 Specifications

Review SSC, Advisory Panel, Monitoring Committee, and staff recommendations for 2020 specifications.

Wednesday, April 10, 2019

Commercial eVTR Omnibus Framework

Framework Meeting 1.

Mid-Atlantic State of the Ecosystem Report

EAFM Updates

2019 Risk Assessment Report and Summer Flounder Conceptual Model update.

Update on Habitat Activities

Update on Northeast Regional Fish Habitat Assessment and update on projects of interest in region.

Illex Permitting and Mackerel, Squid, and Butterfish Fishery Management Plan Goals Amendment

Additional scoping hearing.

Thursday, April 11, 2019

RODA Update and Meeting with UK Fisherman

Updates regarding regional science and monitoring for offshore wind energy and fisheries interactions and discussion with UK fishermen regarding British offshore wind experiences.

Business Session

Committee Reports (SSC and Law Enforcement/HMS/Tilefish Committees); Executive Director's Report; Organization Reports; and, Liaison Reports.

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: March 19, 2019.
Tracey L. Thompson,
Acting Deputy Director, Office of Sustainable Fisheries, National Marine Fisheries Service.

[FR Doc. 2019-05570 Filed 3-22-19; 8:45 am]

BILLING CODE 3510-22-P